DEPARTMENT OF THE TREASURY

Internal Revenue Service

26 CFR Part 31

[TD 7374]

Amendment of Employment Tax Regulations and Regulations on Procedure and Administration; Correction

AGENCY: Internal Revenue Service (IRS), Treasury.

ACTION: Correcting amendment.

SUMMARY: This document contains corrections to (TD 7374) which was published in the Federal Register on Thursday, July 24, 1975 (40 FR 30946) relating to Federal Insurance Contribution Act taxes (FICA).

DATES: This correction is effective July 24, 1975.

FOR FURTHER INFORMATION CONTACT: Warren Joseph at (202) 622-4920 (not a toll-free number).

SUPPLEMENTARY INFORMATION:

Background

The final regulations (TD 7374) that are the subject of this correction is under section 6413(c) of the Internal Revenue Code.

Need for Correction

As published, TD 7374, contains an error that may prove to be misleading and is in need of clarification.

List of Subjects in 26 CFR Part 31

Employment taxes, Income taxes, Penalties, Pensions, Railroad retirement, Reporting and recordkeeping requirements, Social Security, Unemployment compensation.

Correction of Publication

Accordingly, 26 CFR Part 31 is corrected by making the following correcting amendment:

PART 31—EMPLOYMENT TAXES AND COLLECTION OF INCOME TAX AT SOURCE

Paragraph 1. The authority citation for part 31 continues to read in part as follows:

Authority: 26 U.S.C. 7805 * * *

§ 31.6413(c)-1 [Corrected]

Par. 2. Section 31.6413(c)-1(a)(1)(i) is amended by removing the language “§ 1.21-2” and adding the language “§ 1.31-2” in its place.

Cynthia E. Grigsby,
Acting Chief, Publications and Regulations Branch, Legal Processing Division, Associate Chief Counsel (Procedures and Administration).

[FR Doc. 04-21613 Filed 9-24-04; 8:45 am]

BILLING CODE 4830-01-P